FEDERAL DEPOSIT INSURANCE CORPORATION

Agency Information Collection Activities: Proposed Collection Renewal; Comment Request

AGENCY: Federal Deposit Insurance Corporation (FDIC).

ACTION: Notice and request for comment.

SUMMARY: The FDIC, as part of its continuing effort to reduce paperwork and respondent burden, invites the general public and other Federal agencies to take this opportunity to comment on the renewal of the existing information collection, as required by the Paperwork Reduction Act of 1995. Currently, the FDIC is soliciting comment on renewal of the information collection described below.

DATES: Comments must be submitted on or before February 5, 2018.

ADDRESSES: Interested parties are invited to submit written comments to the FDIC by any of the following methods:

• http://www.FDIC.gov/regulations/laws/federal/notices.html.

• Email: comments@fdic.gov. Include the name and number of the collection in the subject line of the message.

• Mail: Manny Cabeza (202-898-3767), Counsel, MB-3007, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, at the FDIC address above.

SUPPLEMENTARY INFORMATION:

Proposal To Renew the Following Currently Approved Collections of Information

1. Title: Recordkeeping, Disclosure and Reporting Requirements in Connection with Regulation Z.

OMB Number: 3064-0082.

Form Number: None.

Affected Public: State nonmember banks and state savings associations.

General Description of Collection: Consumer Financial Protection Bureau (CFPB) Regulation Z—12 CFR 1026 implements the Truth in Lending Act (15 U.S.C. 1601, et seq.) and certain provisions of the Real Estate Settlement Procedures Act (12 U.S.C. 2601 et seq.). This regulation prescribes uniform methods for computing the cost of credit, the disclosure of credit terms and costs, the resolution of errors and imposes various other recordkeeping, reporting and disclosure requirements. The FDIC has enforcement authority on the requirements of the CFPB's Regulation over the financial institutions it supervises. This information collection captures the recordkeeping, reporting and disclosure burdens of Regulation Z on FDIC-supervised institutions.

The information collection is being revised to account for revisions and changes made to Regulation Z by the CFPB since this information collection was last submitted to OMB for clearance.

To arrive at the estimated annual burden the FDIC assessed the number of potential respondents to the information collection by identifying the number of FDIC-supervised institutions who reported activity that would be within the scope of the information collection requirements according to data from the most recent CALL Report. Additionally, the FDIC estimated the frequency of responses to the recordkeeping, reporting, or disclosure requirements by assessing the dollar volume of activity that would be within the scope of the information collection. In some instances the FDIC used information provided by other sources to estimate the magnitude and scope of activity attributable to FDIC-supervised institutions when more immediate information sources did not exist.

Burden Estimate:

Implementation (one-time) Burden Estimate
| Obligation to respond/type of burden | Estimated number of respondents ¹ | Estimated average number of credit Accounts | Frequency of response | Number of responses | Estimated time per response (minutes) | Total estimated annual burden (hours)
Open-End Credit Products
• Not Home-Secured Open-End Credit Plans
○ Credit and Charge Card Provisions
Timely Settlement of Estate Debts (1026.11(c)(1)) Written Policies and Procedures | Mandatory Recordkeeping | 1 | N/A | 1 | 1 | 480.00 | 6
Ability to Pay (1026.51(a)(ii)) Written Policies and Procedures | Mandatory Recordkeeping | 1 | N/A | 1 | 1 | 480.00 | 6
Mortgage Products (Open and Closed-End)
• Valuation Independence
○ Mandatory Reporting
Implementation of Policies and Procedures (1026.42(g)) | Mandatory Recordkeeping | 1 | N/A | 1 | 0 | 1,200.00 | 20
Total Estimated Implementation Burden |  |  |  |  |  |  | 32 Hours
Ongoing Burden Estimate
Open-End Credit Products
• Not Home-Secured Open-End Credit Plans
○ General Disclosure Rules for Not Home-Secured Open-End Credit Plans
Credit and Charge Card Applications and Solicitations (1026.60) | Mandatory Disclosure | 634 | N/A | 1 | 634 | 480.00 | 5,072
Account Opening Disclosures (1026.6(b)) | Mandatory Disclosure | 634 | N/A | 1 | 634 | 720.00 | 7,608
Periodic Statements (1026.7(b)) | Mandatory Disclosure | 634 | N/A | 12 | 7,608 | 480.00 | 60,864
Annual Statement of Billing Rights (1026.9(a)(1)) | Mandatory Disclosure | 317 | N/A | 1 | 317 | 480.00 | 2,536
Alternative Summary Statement of Billing Rights (1026.9(a)(2)) | Voluntary Disclosure | 317 | N/A | 12 | 3,804 | 480.00 | 30,432
Change in Terms Disclosures (1026.9(b) through (h)) | Mandatory Disclosure | 634 | N/A | 1 | 634 | 480.00 | 5,072
○ Credit and Charge Card Provisions
Timely Settlement of Estate Debts (1026.11(c)(2)) | Mandatory Disclosure | 634 | 428 | 1 | 271,352 | 5.00 | 22,613
Ability to Pay (1026.51) | Mandatory Recordkeeping | 634 | N/A | 1 | 634 | 720.00 | 7,608
College Student Credit Annual Report (1026.57(d)) | Mandatory Reporting | 634 | N/A | 1 | 634 | 480.00 | 5,072
Submission of Credit Card Agreements (1026.58(c)) | Mandatory Reporting | 634 | N/A | 4 | 2,536 | 180.00 | 7,608
Internet Posting of Credit Card Agreements (1026.58(d)) | Mandatory Disclosure | 634 | N/A | 4 | 2,536 | 360.00 | 15,216
Individual Credit Card Agreements (1026.58(e)) | Mandatory Disclosure | 634 | 125 | 1 | 79,250 | 15.00 | 19,813
• Home Equity Open-End Credit Plans (HELOC)
○ General Disclosure Rules for HELOC's
Application Disclosures (1026.40) | Mandatory Disclosure | 2,717 | N/A | 1 | 2,717 | 720.00 | 32,604
Account Opening Disclosures (1026.6(a)) | Mandatory Disclosure | 2,717 | N/A | 1 | 2,717 | 720.00 | 32,604
Periodic Statements (1026.7(a)) | Mandatory Disclosure | 2,717 | N/A | 1 | 2,717 | 480.00 | 21,736
Annual Statement of Billing Rights (1026.9(a)(1)) | Mandatory Disclosure | 2,717 | N/A | 1 | 2,717 | 480.00 | 21,736
Alternative Summary Statement of Billing Rights (1026.9(a)(2)) | Voluntary Disclosure | 2,717 | N/A | 1 | 2,717 | 480.00 | 21,736
Change in Terms Disclosures (1026.9(b) through (h)) | Mandatory Disclosure | 2,717 | N/A | 1 | 2,717 | 480.00 | 21,736
Notice to Restrict Credit (1026.9(c)(1)(iii); .40(f)(3)(i) and (vi)) | Mandatory Disclosure | 2,717 | N/A | 1 | 2,717 | 120.00 | 5,434
• All Open-End Credit Plans
Error Resolution (1026.13) | Mandatory Disclosure | 3,624 | 2,963 | 1 | 10,737,912 | 1.0 | 178,965
Closed-End Credit Products
• General Rules for Closed-End Credit
Other than Real Estate, Home-Secured and Private Education Loans (1026.17 and .18) | Mandatory Disclosure | 1 | N/A | 1 | 1 | 720.00 | 12
• Closed-End Mortgages
○ Application and Consummation
Loan Estimate (1026.19(e); and .37) | Mandatory Disclosure | 3,628 | N/A | 1 | 3,628 | 480.00 | 29,204
Closing Disclosure (1026.19(f); and .38) | Mandatory Disclosure | 3,628 | N/A | 1 | 3,628 | 480.00 | 29,204
Record Retention of Disclosures (1026.19(e), (f); .37; and .38) | Mandatory Recordkeeping | 3,628 | N/A | 1 | 3,628 | 18.00 | 1,088
○ Post-Consummation Disclosures
Interest Rate and Payment Summary (1026.18(s)) | Mandatory Disclosure | 3,628 | N/A | 1 | 3,628 | 2,400.00 | 145,120
No Guarantee to Refinance Statement (1026.18(t)) | Mandatory Disclosure | 3,628 | N/A | 1 | 3,628 | 480.00 | 29,204
ARMs Rate Adjustments with Payment Change Disclosures (1026.20(c)) | Mandatory Disclosure | 3,628 | N/A | 1 | 3,628 | 90.00 | 5,442
Initial Rate Adjustment Disclosure for ARMs (1026.20(d)) | Mandatory Disclosure | 3,628 | N/A | 1 | 3,628 | 120.00 | 7,256
Escrow Cancellation Notice (1026.20(e)) | Mandatory Disclosure | 3,628 | N/A | 1 | 3,628 | 480.00 | 29,204
Periodic Statements (1026.41) | Mandatory Disclosure | 3,628 | N/A | 1 | 3,628 | 480.00 | 29,204
○Ability to Repay Requirements
Minimum Standards (1026.43(c) through (f)) | Mandatory Recordkeeping | 3,628 | 926 | 1 | 3,359,528 | 15.00 | 839,882
Prepayment Penalties (1026.43(g)) | Mandatory Disclosure | 3,628 | 16 | 1 | 58,048 | 12.00 | 11.610
Mortgage Products (Open and Closed-End)
• Mortgage Servicing Disclosures
○ Payoff Statements
Payoff Statements (1026.36(c)(3)) | Mandatory Disclosure | 3,628 | N/A | 1 | 3,628 | 480.00 | 29,024
○ Notice of Sale or Transfer
Notice of Sale or Transfer (1026.39) | Mandatory Disclosure | 3,628 | N/A | 1 | 3,628 | 480.00 | 29,204
• Valuation Independence
○ Mandatory Reporting
Reporting Appraiser Noncompliance (1026.42(g)) | Mandatory Reporting | 3,628 | 1 | 1 | 3,628 | 10.00 | 605
Reverse and High-Cost Mortgages
• Reverse Mortgages
○ Reverse Mortgage Disclosures
Reverse Mortgage Disclosures (1026.31(c)(2) and .33) | Mandatory Disclosure | 14 | N/A | 1 | 14 | 1,440.00 | 336
• High-Cost Mortgage Loans
○ HOEPA Disclosures and Notice
HOEPA Disclosures and Notice (1026.32(c) | Mandatory Disclosure | 3,628 | N/A | 1 | 3,628 | 14.00 | 847
Private Education Loans
• Initial Disclosures
○ Application and Solicitation Disclosures
Application or Solicitation Disclosures (1026.47(a)) | Mandatory Disclosure | 3,561 | N/A | 1 | 3,561 | 3,600.00 | 213,660
○ Approval Disclosures
Approval Disclosures (1026.47(b)) | Mandatory Disclosure | 3,561 | N/A | 1 | 3,561 | 3,600.00 | 213,660
○ Final Disclosures
Final Disclosures (1026.47(c)) | Mandatory Disclosure | 3,561 | N/A | 1 | 3,561 | 3,600.00 | 213,660
Advertising Rules
• All Credit Types
○ Open-End Credit
Open-End Credit (1026.16) | Mandatory Disclosure | 3,624 | 5 | 1 | 18,120 | 20.00 | 6,040
○ Closed-End Credit
Closed-End Credit (1026.24) | Mandatory Disclosure | 3,628 | 5 | 1 | 18,140 | 20.00 | 6,047
Record Retention
• Evidence of Compliance
Regulation Z in General (1026.25) | Mandatory Recordkeeping | 3,652 | N/A | 1 | 3,652 | 18.00 | 1,096
Total Estimated Ongoing Burden |  |  |  |  |  |  | 2,396,494
Total Estimated Annual Burden |  |  |  |  |  |  | 2,396,526
FDIC estimates that all existing FDIC-supervised institutions have implemented the policies and procedures required by Regulation Z and will only face the estimated ongoing (transaction) burdens reflected in the table below. The respondent count of 1 is intended as a placeholder for the associated burden estimate to account for any institution(s) that may become subject to the information collection requirements in the future.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, this 4th day of December, 2017.
Federal Deposit Insurance Corporation.
Robert E. Feldman,
Executive Secretary.

[FR Doc. 2017-26424 Filed 12-6-17; 8:45 am]

BILLING CODE 6714-01-P